DEPARTMENT OF ENERGY

Federal Energy Regulatory Commission

Notice of Application Ready for Environmental Analysis and Soliciting Comments, Recommendations, Terms and Conditions, and Prescriptions

February 17, 2005.

Take notice that the following hydroelectric application has been filed with the Commission and is available for public inspection.

a. Type of Application: New major license.

b. Project No.: P-289-013.

c. Date filed: October 7, 2003.

d. Applicant: Louisville Gas and Electric Company (LG&E).

e. Name of Project: Ohio Falls Hydroelectric Project.

f. Location: On the Ohio River, in Jefferson County, Kentucky. This project is located at the U.S. Army Corp of Engineer's McAlpine Locks and Dam Project.

g. Filed Pursuant to: Federal Power Act 16 U.S.C. 791(a)-825(r).

h. Applicant Contact: Ms. Elizabeth L. Cocanougher, Senior Corporate Attorney, Louisville Gas and Electric Company, 220 West Main Street, Louisville, Kentucky 40202, (502) 627-2557.

i. FERC Contact: John Costello, john.costello@ferc.gov, (202) 502-6119.

j. Deadline for filing comments, recommendations, terms and conditions, and prescriptions is 60 days from the issuance date of this notice; reply comments are due 105 days from the issuance date of this notice.

All documents (original and eight copies) should be filed with: Magalie R. Salas, Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(iii) and instructions on the Commission's Web site (http://www.ferc.gov) under the “eFiling” link.

k. This application has been accepted, and is ready for environmental analysis at this time.

l. Project Description: The Ohio Falls Hydroelectric Project consists of the following existing facilities: (a) A concrete powerhouse containing eight-10,040 kW generating units, located at the U.S. Army Corp of Engineer's McAlpine Locks and Dam Project; (b) a concrete headworks section, 632 feet long and 2 feet wide, built integrally with the powerhouse; (c) an office and electric gallery building; (d) a 69 kV transmission line designated as line 6608 to the Canal substation; (e) an access road, (f) one half mile of railroad tracks; and (g) appurtenant facilities. The project facilities are owned by LG&E.

m. A copy of the application is on file with the Commission and is available for public inspection. This filing may also be viewed on the Web at http://www.ferc.gov using the “eLibrary” link—select “Docket #” and follow the instructions. For assistance, please contact FERC Online Support at FERCOnlineSupport@ferc.gov or toll free at (866) 208-3676 or for TTY, contact (202) 502-8659. A copy is also available for inspection and reproduction at the address in item h above.

All filings must (1) bear in all capital letters the title “COMMENTS,” “REPLY COMMENTS”, “RECOMMENDATIONS”, “TERMS AND CONDITIONS”, or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with requirements of 18 CFR 4.34(b). Agencies may obtain copies of the application directly from the applicant. Each filing must be accomplished by proof of service on all persons listed on the service list prepared by the Commission in this proceeding, in accordance with 18 CFR 4.34(b), and 385.2010.

n. Procedural schedule: The Commission staff proposes to issue one Environmental Assessment (EA) rather than issuing a draft and final EA. Staff intends to allow 30 days for entities to comment on the EA, and will take into consideration all comments received on the EA before final action is taken on the license application. The application will be processed according to the following schedule, but revisions to the schedule may be made as appropriate:

Action | Date
Notice Availability of EA | June 2005.
Ready for Commission Decision on Application | September 2005.

You may also register online at http://www.ferc.gov/docs-filing/esubcription.asp to be notified via e-mail of new filing and issuances related to this or other pending projects. For assistance, contact FERC Online Support.

Linda Mitry,
Deputy Secretary.

[FR Doc. E5-746 Filed 2-23-05; 8:45 am]

BILLING CODE 6717-01-P